DEPARTMENT OF TRANSPORTATION

Office of the Secretary of Transportation

[Docket No. DOT-OST-2015-0139]

Proposed Information Collection Request; Notice of New Requirements and Procedures for Grant Payment Request Submission

AGENCY: Department of Transportation (DOT).

ACTION: Notice with request for comments.

SUMMARY: The Department of Transportation (DOT), Office of the Secretary (OST) will be submitting the following information collection request to the Office of Management and Budget (OMB) for review and clearance in accordance with the Paperwork Reduction Act of 1995. The information collection was previously published in the Federal Register on October 29, 2015, allowing for a 60-day public comment period.

DATES: Comments must be submitted on or before March 28, 2016.

ADDRESSES: Direct comments to the Department of Transportation Desk Officer in the Office of Information and Regulatory Affairs at the Office of Management and Budget (OMB). You may submit comments by the following methods:

• Email: oira_submission@omb.eop.gov. You must include the information collection title and OMB control number in the subject line of your message.

• Fax: 202-395-5806. Attn: Desk Officer for Department of Transportation.

FOR FURTHER INFORMATION CONTACT: You may obtain copies of the proposed information collection and supporting documents from US Department of Transportation, Office of Financial Management, B-30, Room W93-431, 1200 New Jersey Avenue SE., Washington, DC 20590-0001, (202) 366-0448, DOTElectronicInvoicing@dot.gov.

SUPPLEMENTARY INFORMATION: Title: Notice of Procedures for Vendor Invoice Submission Pilot.

OMB Control Number: 2106-XXXX.

Type of Request: New information collection.

Background: This notice sets forth new processes and procedures for vendors that submit invoices and receive payments from DOT Operating Administrations (OAs). The vendors involved in the pilot must meet the following requirements to participate—

• Vendors will need to have electronic internet access to register in the Delphi eInvoicing system.

• Vendors will submit invoices electronically and DOT OAs must process invoices electronically.

• The identities of system users must be verified prior to receiving access to the Delphi eInvoicing system. Prospective Users must complete a user request form and provide the following information: Full name, work address, work phone number, work email address, home address and home phone number. Prospective users must present the completed form to a Notary Public for verification. Prospective users will then return the notarized form to DOT to receive their login credentials.

Affected Public: DOT Vendors.

Total Estimated Number of Respondents: 255.

Total Estimated Number of Responses: 2603.

Estimated Total Annual Burden Hours: 5206 (initial registration only).

Frequency of Collection: One time.

Annual Estimated Total Annual Burden Costs: $52,060.

Comments: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents.

Authority: The Paperwork Reduction Act of 1995, 44 U.S.C. 3501-3520, as amended.

Issued in Washington, DC, on February 17, 2016.
Habib Azarsina,
OST Privacy & PRA Officer, Department of Transportation.

[FR Doc. 2016-04212 Filed 2-25-16; 8:45 am]

BILLING CODE 4910-9X-P